DEPARTMENT OF LABOR

Agency Information Collection Activities; Proposed Extension of Information Collection; Equal Access to Justice Act

ACTION: Notice of availability; request for comments.

SUMMARY: The Department of Labor (DOL) is submitting this Office of the Assistant Secretary for Administration and Management (OASAM)-sponsored information collection request (ICR) to the Office of Management and Budget (OMB) for review and approval in accordance with the Paperwork Reduction Act of 1995 (PRA). Public comments on the ICR are invited.

DATES: The OMB will consider all written comments that the agency receives on or before February 5, 2024.

ADDRESSES: Written comments and recommendations for the proposed information collection should be sent within 60 days of publication of this notice to www.reginfo.gov/public/do/PRAMain. Find this particular information collection by selecting “Currently under 60-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nora Hernandez by telephone at 202-693-8633, or by email at hernandez.nora@dol.gov.

SUPPLEMENTARY INFORMATION: The Equal Access to Justice Act (EAJA) (5 United States Code section 504(a)(2)) provides payment of fees and expenses to eligible parties who have prevailed against a Federal agency in certain administrative proceedings. These requirements are codified in the Department of Labor's regulations in 29 Code of Federal Regulations part 16, subpart B. To obtain an award, the statute and associated DOL regulations require parties to file an application. Other agencies may have their own EAJA regulations.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Type of Review: Extension of a currently approved collection.

Agency: DOL-OASAM.

Title of Collection: Equal Access to Justice Act.

OMB Number: 1225-0013.

Affected Public: Individuals or households.

Number of Respondents: 10.

Number of Responses: 10.

Annual Burden Hours: 50 hours.

Annual Respondent or Recordkeeper Cost: $25.

(Authority: 44 U.S.C. 3507(a)(1)(D))

Nora Hernandez,
Paperwork Reduction Act Departmental Clearance Officer.

[FR Doc. 2023-26747 Filed 12-5-23; 8:45 am]

BILLING CODE 4510-04-P